DEPARTMENT OF COMMERCE

Submission for OMB Review; Comment Request

The Department of Commerce (DOC) will submit to the Office of Management and Budget (OMB) for clearance the following proposal for collection of information under the emergency provisions of the Paperwork Reduction Act (44 U.S.C. Chapter 35).

Agency: Office of the Secretary, Office of Administrative Services.

Title: DOC National Environmental Policy Act Environmental Questionnaire and Checklist.

OMB Control Number: None.

Form Number(s): CD-593.

Type of Request: Emergency submission.

Number of Respondents: 200.

Average Hours Per Response: 2.

Burden Hours: 400.

Needs and Uses: The Department of Commerce (DOC) requests an emergency review of a new information collection request for the DOC National Environmental Policy Act (NEPA) Environmental Questionnaire and Checklist (EQC). This emergency review will facilitate the execution of projects authorized under the American Recovery and Reinvestment Act of 2009 and other DOC projects. The EQC was developed to assist DOC in complying with NEPA by facilitating the collection of data concerning potential environmental impacts, streamlining the collection of that data, and maintaining consistency in quality and quantity of information received.

The EQC will allow DOC reviewers to rapidly review infrastructure projects, facilitate in evaluating the potential environmental impacts of a project, and help in determining the appropriate level of documentation (Categorical Exclusion, Environmental Assessment, or Environmental Impact Statement) necessary to comply with NEPA.

Affected Public: Business or other for-profit organizations; Not-for-profit institutions; Individuals or households.

Frequency: On occasion.

Respondent's Obligation: Required to retain or obtain benefits.

OMB Desk Officer: Nicholas Fraser, (202) 395-5855.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent by December 7, 2009 to Nicholas Fraser, OMB Desk Officer, FAX number (202) 395-5806 or via the Internet at Nicholas_A._Fraser@omb.eop.gov.

Dated: November 24, 2009.
Gwellnar Banks,
Management Analyst, Office of the Chief Information Officer.

[FR Doc. E9-28518 Filed 11-27-09; 8:45 am]

BILLING CODE 3510-NW-P